DEPARTMENT OF COMMERCE

National Technical Information Service

[Docket No.: 160726001-5001-02]

Opportunity To Enter Into a Joint Venture With the National Technical Information Service for Data Innovation Support; Extension of Proposal Submission Period

AGENCY: National Technical Information Service, Department of Commerce.

ACTION: Notice; extension of proposal submission period.

SUMMARY: The National Technical Information Service (NTIS) is extending the period during which it will accept proposals from organizations interested in entering into a Joint Venture Partnership with NTIS to assist Federal agencies to develop and implement innovative ways to collect, connect, access, analyze, or use Federal data and data services.

DATES: Proposals are due on or before 11:59 p.m. Eastern Time on Tuesday, August 9, 2016. Proposals received after 11:59 p.m. Eastern Time on August 1, 2016 and before publication of this notice are deemed timely.

ADDRESSES: Proposers must submit their written submissions electronically with the subject line “Opportunity to Enter into a Joint Venture Partnership with the National Technical Information Service for Data Innovation Support” via email to OpportunityAnnouncement@ntis.gov with an email copy to Kenyetta Haywood at khaywood@ntis.gov.

FOR FURTHER INFORMATION CONTACT: Don Hagen at 703-605-6142, or by email at dhagen@ntis.gov.

SUPPLEMENTARY INFORMATION: On Wednesday, June 15, 2016, NTIS published a notice in the Federal Register (81 FR 39025), requesting proposals from interested for-profit, non-profit, or research performing organizations to enter into a Joint Venture Partnership with NTIS to assist Federal agencies to develop and implement innovative ways to collect, connect, access, analyze, or use Federal data and data services. An informational session and webinar about the opportunity were held on Thursday, July 7, 2016. The session was recorded and is posted on the NTIS Web site at www.ntis.gov. Due to the many questions received from interested parties and requests for additional time to prepare proposals, NTIS is extending the proposal submission period to 11:59 p.m. Eastern Time on Tuesday, August 9, 2016. Proposers who submitted proposals by the August 1, 2016 deadline but who want to use the additional preparation time may withdraw the proposal they submitted and submit a complete, revised proposal by the August 9, 2016 deadline.

Dated: July 26, 2016.
Gregory Capella,
Deputy Director, National Technical Information Service.

[FR Doc. 2016-18034 Filed 7-28-16; 8:45 am]

BILLING CODE 3510-04-P